DEPARTMENT OF COMMERCE

International Trade Administration

(C-403-802)

Final Results of Expedited Sunset Review of Countervailing Duty Order: Fresh and Chilled Atlantic Salmon From Norway

AGENCY: Import Administration, International Trade Administration, Department of Commerce.

SUMMARY: On February 2, 2005, the Department of Commerce (“the Department”) initiated a sunset review of the countervailing duty (“CVD”) order on fresh and chilled Atlantic salmon from Norway pursuant to section 751(c) of the Tariff Act of 1930, as amended (“the Act”). See Initiation of Five-year (“Sunset”) Reviews, 70 FR 5415 (February 2, 2005). On the basis of a notice of intent to participate and an adequate substantive response filed on behalf of the domestic interested parties, as well as inadequate response (in this case, no response) from respondent interested parties, the Department conducted an expedited sunset review of this CVD order pursuant to section 751(c)(3)(B) of the Act and 19 CFR 351.218(e)(1)(ii)(B). As a result of this sunset review, the Department finds that revocation of the CVD order would be likely to lead to continuation or recurrence of a countervailable subsidy at the levels indicated in the “Final Results of Review” section of this notice.

EFFECTIVE DATE: September 8, 2005.

FOR FURTHER INFORMATION CONTACT: Tipten Troidl or David Goldberger, AD/CVD Operations, Office 3, Import Administration, U.S. Department of Commerce, 14th Street & Constitution Avenue NW, Washington, DC 20230; telephone: (202) 482-1767 or (202) 482-4136, respectively.

SUPPLEMENTARY INFORMATION:

Background

On February 2, 2005, the Department initiated a sunset review of the countervailing duty order on fresh and chilled Atlantic salmon from Norway pursuant to section 751(c) of the Act. See Initiation of Five-year (“Sunset”) Reviews, 70 FR 5415 (February 2, 2005). On February 17, 2005, the Department received a notice of intent to participate on behalf of Heritage Salmon Company, Inc. and Atlantic Salmon of Maine within the deadline specified in 19 CFR 351.218(d)(1)(i). The domestic interested parties claimed interested party status as domestic producers of fresh and chilled Atlantic salmon pursuant to section 771(9)(C) of the Act. The Department received a complete substantive response from the domestic parties within the 30-day deadline specified in 19 CFR 351.218(d)(3)(i). The Department did not receive a substantive response from any respondent interested party to this proceeding. As a result, pursuant to section 751(c)(3)(B) of the Act and 19 CFR 351.218(e)(1)(ii)(C)(2), the Department conducted an expedited sunset review of this CVD order.

The Department determined that the sunset review of the CVD order on fresh and chilled Atlantic salmon from Norway is extraordinarily complicated. In accordance with section 751(c)(5)(C)(v) of the Act, the Department may treat a review as extraordinarily complicated if it is a review of a transition order (i.e., an order in effect on January 1, 1995). Therefore, on May 13, 2005, the Department extended the time limit for completion of the final results of this review until not later than August 31, 2005.¹

¹ See Extension of Time Limits for Preliminary Results and Final Results of the Full Sunset Review of the Antidumping Duty Order on Fresh and Chilled Atlantic Salmon from Norway and the Final Results of the Expedited Sunset Review of the Countervailing Duty Order on Fresh and Chilled Atlantic Salmon from Norway, 70 FR 25537 (May 13, 2005).

Scope of the Order

The merchandise covered by this order is the species Atlantic salmon (Salmon Salar) marketed as specified herein; the order excludes all other species of salmon: Danube salmon, Chinook (also called “king” or “quinnat”), Coho (“silver”), Sockeye (“redfish” or “blueback”), Humpback (“pink”) and Chum (“dog”). Atlantic salmon is a whole or nearly-whole fish, typically (but not necessarily) marketed gutted, bled, and cleaned, with the head on. The subject merchandise is typically packed in fresh-water ice (“chilled”). Excluded from the subject merchandise are fillets, steaks and other cuts of Atlantic salmon. Also excluded are frozen, canned, smoked or otherwise processed Atlantic salmon. Prior to January 1, 1990, Atlantic salmon was provided for under item numbers 0302.12.0060.8 and 0302.12.0065.3 of the Harmonized Tariff Schedule of the United States (“HTSUS”) (56 FR 7678, February 25, 1991). At the time of the original investigation, it was provided for under HTSUS item number 0302.12.0002.9. Currently, it is provided for under HTSUS item numbers 0302.12.0003 and 0302.12.0004.² The subheadings above are provided for convenience and customs purposes. The written description remains dispositive.

² See March 4, 2005, submission by domestic interested parties at 3.

There have been no scope rulings for the subject order.

Analysis of Comments Received

All issues raised in this review are addressed in the “Issues and Decision Memorandum” (“Decision Memorandum”) from Barbara E. Tillman, Acting Deputy Assistant Secretary for Import Administration, to Joseph A. Spetrini, Acting Assistant Secretary for Import Administration, dated August 30, 2005, which is hereby adopted by this notice. Parties can find a complete discussion of all issues raised in this review and the corresponding recommendation in this public memorandum which is on file in the Central Records Unit room B-099 of the main Commerce building. In addition, a complete version of the Decision Memorandum can be accessed directly on the Web at http://ia.ita.doc.gov/frn. The paper copy and electronic version of the Decision Memorandum are identical in content.

Final Results of Review

The Department determines that revocation of the CVD order on fresh and chilled Atlantic salmon would be likely to lead to continuation or recurrence of a countervailable subsidy at the rate listed below:

Manufacturer/exporters | Net Countervailable Subsidy (percent)
All producers/manufacturers/exporters | 2.27

Notification Regarding Administrative Protective Order

This notice also serves as the only reminder to parties subject to administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the results and notice in accordance with sections 751(c), 752, and 777(i)(1) of the Act.

Dated: August 30, 2005.
Joseph A. Spetrini,
Acting Assistant Secretary for Import Administration.

[FR Doc. 05-17743 Filed 9-7-05; 8:45 am]

BILLING CODE 3510-DS-S